DEPARTMENT OF EDUCATION

34 CFR Chapter III

[ED-2023-OSERS-0175]

Proposed Waiver and Extension of the Project Period with Funding for Rehabilitation Long-Term Training Grants

AGENCY: Office of Special Education and Rehabilitative Services (OSERS), Department of Education.

ACTION: Proposed waiver and extension of project period with funding.

SUMMARY: The Secretary proposes to waive the requirements in the Education Department General Administrative Regulations that generally prohibit project periods exceeding five years and project period extensions involving the obligation of additional Federal funds. The proposed waiver and extension would enable 51 projects under Assistance Listing Numbers (ALN) 84.129B, 84.129H, 84.129P, and 84.129Q to receive funding for an additional period, not to exceed September 30, 2025.

DATES: We must receive your comments on or before November 2, 2023.

ADDRESSES: Comments must be submitted via the Federal eRulemaking Portal at www.regulations.gov. However, if you require an accommodation or cannot otherwise submit your comments via www.regulations.gov, please contact the program contact person listed under FOR FURTHER INFORMATION CONTACT. The Department will not accept comments submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

Privacy Note: OSERS's policy is generally to make comments received from members of the public available for public viewing in their entirety on the Federal eRulemaking Portal at www.regulations.gov. Therefore, commenters should be careful to include in their comments only information that they wish to make publicly available.

FOR FURTHER INFORMATION CONTACT: Karen Holliday Young, U.S. Department of Education, 400 Maryland Avenue SW, room 4A111, Washington, DC 20202. Telephone: 202-245-7318. Email: Karen.Holliday@ed.gov.

If you are deaf, hard of hearing, or have a speech disability and wish to access telecommunications relay services, please dial 7-1-1.

SUPPLEMENTARY INFORMATION:

Invitation to Comment: We invite you to submit comments regarding this proposed waiver and extension. To ensure that your comments have maximum effect in developing the notice of final waiver and extension, we urge you to identify clearly the specific grantee or grantees (listed in the table under the Background section) that each comment addresses.

We invite you to assist us in complying with the specific requirements of Executive Orders 12866, 13563, and 14094 and their overall requirement of reducing regulatory burden that might result from these proposed waivers and extensions. Please let us know of any further ways we could reduce potential costs or increase potential benefits while preserving the effective and efficient administration of the program.

During and after the comment period, you may inspect public comments about this proposed waiver and extension of the project period by accessing Regulations.gov.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background:

On July 5, 2019, the Department of Education (Department) published in the Federal Register (84 FR 32144) a notice inviting applications in four specialty areas of the Rehabilitation Long-Term Training program. Applications specifically were sought under Assistance Listing Number (ALN) 84.129B (Rehabilitation Counseling), 84.129H (Rehabilitation of Individuals Who Are Mentally Ill), 84.129P (Rehabilitation of Individuals Who Are Blind or Have Vision Impairments), and 84.129Q (Rehabilitation of Individuals Who Are Deaf or Hard of Hearing). In the notice inviting applications, the Rehabilitation Services Administration included two absolute priorities and one invitational priority. The first absolute priority addressed programs leading to a master's degree in rehabilitation counseling. The goal of this priority is to increase the skills of vocational rehabilitation counseling scholars so that upon successful completion they are prepared to effectively meet the needs and demands of consumers with disabilities and employers. The second absolute priority addressed programs leading to a master's degree or certificate in one of three specialty areas: (1) Rehabilitation of Individuals Who Are Mentally Ill; (2) Specialized Personnel for Rehabilitation of Individuals Who Are Blind or Have Vision Impairments; and (3) Rehabilitation of Individuals Who Are Deaf or Hard of Hearing. The goal of this priority is to increase the skills of scholars in these rehabilitation specialty areas so that upon successful completion of their master's degree or certificate programs they are prepared to effectively meet the needs and demands of consumers with disabilities. The invitational priority noted the Department's interest in applications that demonstrate that the training to VR counselors includes information related to providing VR services to individuals with disabilities pursuing self-employment, business ownership, and telecommuting. The funds were awarded to colleges and universities that in turn award scholarships to students enrolled in rehabilitation training programs.

A table listing the FY 2019 grantees follows along with their geographical location.

| Grantee name
FY 2019 Awards under ANL 84.129B
H129B190001 | South Dakota State University, Brookings, SD.
H129B190003 | The Board of Regents of the University of Wisconsin System, Madison, WI.
H129B190004 | Springfield College, Springfield, MA.
H129B190005 | Georgia State University Research Foundation, Inc., Atlanta, GA.
H129B190007 | The University of Texas Rio Grande Valley, Edinburg, TX.
H129B190008 | San Diego State University Foundation, San Diego, CA.
H129B190009 | Utah State University, Logan, UT.
H129B190011 | The Corporation of Mercer University, Atlanta, GA.
H129B190012 | St. Cloud State University, St. Cloud, MN.
H129B190013 | University of Iowa, Iowa City, IA.
H129B190014 | University of Memphis, Memphis, TN.
H129B190015 | University of Massachusetts Boston, Boston, MA.
H129B190019 | Western Washington University, Everett, WA.
H129B190021 | The Florida International Board of Trustees, Miami, FL.
H129B190022 | Portland State University, Portland, OR.
H129B190023 | University of Hawaii, Honolulu, HI.
H129B190026 | Western Oregon University, Monmouth, OR.
H129B190028 | Virginia Commonwealth University, Richmond, VA.
H129B190032 | Drake University, Des Moines, IA.
H129B190034 | Winston Salem State University, Winston-Salem, NC.
H129B190035 | The University of Texas at El Paso, El Paso, TX.
H129B190036 | The Pennsylvania State University, University Park, PA.
H129B190039 | The University of North Carolina at Chapel Hill, Chapel Hill, NC.
H129B190041 | Rutgers, The State University of New Jersey, RBHS-SHP, Piscataway, NJ.
H129B190045 | University of Puerto Rico-Rio Piedras, San Juan, PR.
H129B190046 | Michigan State University, East Lansing, MI.
H129B190047 | The Research Foundation for SUNY on behalf of U. at Buffalo, Buffalo, NY.
H129B190051 | University of North Texas, Denton, TX.
H129B190052 | Hofstra University, Hempstead, NY.
FY 2019 Awards under ANL 84.129H
H129H190001 | Thomas University, Thomasville, GA.
H129H190002 | Georgia State University Research Foundation, Inc., Atlanta, GA.
H129H190003 | Arizona Board of Regents, University of Arizona, Tucson, AZ.
H129H190004 | San Diego State University Foundation, San Diego, CA.
H129H190005 | Virginia Commonwealth University, Richmond, VA.
H129H190006 | The George Washington University, Washington, DC.
H129H190008 | The University of North Carolina at Chapel Hill ,Chapel Hill, NC.
H129H190012 | University of Massachusetts, Boston, MA.
H129H190015 | University of Arkansas, Fayetteville, AR.
H129H190016 | San Francisco State University, San Francisco, CA.
H129H190018 | Marquette University, Milwaukee, WI.
H129H190019 | Illinois Institute of Technology, Chicago, IL.
FY 2019 Awards under ANL 84.129P
H129P190002 | Louisiana Tech University, Ruston, LA.
H129P190005 | Mississippi State University, Mississippi State, MS.
H129P190012 | Northern Illinois University, DeKalb, IL.
H129P190009 | Salus University, Elkins Park, PA.
H129P190011 | San Francisco State University, San Francisco, CA.
H129P190004 | University of Massachusetts Boston, Boston, MA.
H129P190001 | Western Michigan University, Kalamazoo, MI.
H129P190007 | Western Michigan University, Kalamazoo, MI.
FY 2019 Awards under ANL 84.129Q
H129Q190001 | Emporia State University, Emporia, KS.
H129Q190003 | Winston-Salem State University, Winston-Salem, NC.

Waivers and Extensions:

The Department proposes to extend these 51 projects to align with the 33 ALN 84.129B grant projects funded in FY 2020. Like the FY 2019 84.129 grant projects, the FY 2020 84.129B projects were funded to provide academic training in areas of personnel shortages as identified by the Secretary to increase the number of personnel trained in providing Vocational Rehabilitation (VR) services to individuals with disabilities. The FY 2020 84.129B grantees will receive their final year of funding in FY 2024 with a September 30, 2025 performance period ending date. The Department does not believe that it would be in the public interest to run a competition for ALNs 84.129B, 84.129H, 84.129P and 84.129Q in FY 2024. Rather, aligning the projects' period of performance end dates for all four ALNs would allow the Department to reduce the financial and administrative burden by conducting a single competition for 84.129B, 84.129H, 84.129P and 84.129Q grants in FY 2025, with a five-year performance period that would run from October 1, 2025, through September 30, 2030.

For this reason, the Secretary proposes to waive the requirements in 34 CFR 75.250, which prohibit project periods exceeding five years, as well as the requirements in 34 CFR 75.261(a) and (c)(2), which allow the extension of a project period only if the extension does not involve the obligation of additional Federal funds. This waiver would allow the Department to issue a one-year FY 2024 continuation award to each of the 51 currently funded FY 2019 84.129B, 84.129H, 84.129P and 84.129Q projects up to the amount awarded to the projects in FY 2023 and subject to the ability of the projects to use the funds.

Any activities carried out during the year of this continuation award must be consistent with, or a logical extension of, the scope, goals, and objectives of the grantees' applications as approved in the FY 2019 competition. The requirements for continuation awards are set forth in 34 CFR 75.253.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that the proposed waiver and extension of the project period would not have a significant economic impact on a substantial number of small entities. The only entities that would be affected by the proposed waiver and extension of the project period are the 51 grants that were awarded in FY 2019 under ALN 84.129B, 84.129H, 84,129P, and 84.129Q.

The Secretary certifies that the proposed waiver and extension would not have a significant economic impact on these entities, because the extension of an existing project period imposes minimal compliance costs, and the activities required to support the additional year of funding would not impose additional regulatory burdens or require unnecessary Federal supervision.

Paperwork Reduction Act of 1995

This notice of proposed waiver and extension of the project period does not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2023-21853 Filed 9-29-23; 11:15 am]

BILLING CODE 4000-01-P